DEPARTMENT OF ENERGY

Federal Energy Regulatory Commission

[Docket Nos. CP01-76-000, CP01-77-000, RP01-217-000, and CP01-156-000 (not consolidated)]

Cove Point LNG Limited Partnership; Non-Disclosure Agreement

I hereby agree that I will not disclose the non-public material I have requested in this proceeding (specified below) to anyone other than, as appropriate, my client, my supervisor(s), or anyone else whom I represent or to whom I report. That person(s) in turn may not disclose the information to anyone. I understand that the contents of the non-public material, any notes or other memoranda, or any other form of information that copies or discloses this material shall not be disclosed to anyone other than as noted. I further understand that I shall use this material only in connection with this proceeding. I acknowledge that a violation of this agreement constitutes a violation of the Commission's directive at 97 FERC ¶61,181 (2001) that certain material in this proceeding be treated as privileged.

Specification of Material Requested:

By:

Date:

(Print Name)

Title:

Representing:

Mailing Address:

Telephone Number:

Email Address:

Date of Intervention:

[FR Doc. 01-29570 Filed 11-27-01; 8:45 am]

BILLING CODE 6717-01-P